DEPARTMENT OF ENERGY

Federal Energy Regulatory Commission

Combined Notice of Filings #1

February 1, 2006.

Take notice that the Commission received the following electric rate filings.

Docket Numbers: ER03-956-000.

Applicants: Duke Energy Marketing America, LLC.

Description: Duke Energy Marketing America LLC submits that it reassigned transmission capacity in October 2005 to the Bayside Power LP.

Filed Date: January 26, 2006.

Accession Number: 20060130-0288.

Comment Date: 5 p.m. Eastern Time on Thursday, February 16, 2006.

Docket Numbers: ER05-1371-001.

Applicants: Caledonia Power I, L.L.C.

Description: Cinergy Entities submits revised tariff sheets for Caledonia Power I, L.L.C., in compliance with FERC's November 22, 2005 Order.

Filed Date: January 26, 2006.

Accession Number: 20060130-0293.

Comment Date: 5 p.m. Eastern Time on Thursday, February 16, 2006.

Docket Numbers: ER06-517-000.

Applicants: California Independent System Operator Corporation

Description: California Independent System Operator Corp submits its long-term Standard Large Generator Interconnection Procedures and January 19, 2006 filing submitting revised tariff sheets in Attachment B.

Filed Date: January 18, 2006.

Accession Number: 20060124-0073.

Comment Date: 5 p.m. Eastern Time on Wednesday, February 8, 2006.

Docket Numbers: ER06-550-000.

Applicants: Pacific Gas and Electric Company.

Description: Pacific Gas and Electric Co. submits revisions to their Transmission Owner Tariff, Grid Management Charge Pass-Through Tariff and Scheduling Coordinator Services Tariff for Western Area Power Administration.

Filed Date: January 26, 2006.

Accession Number: 20060130-0169.

Comment Date: 5 p.m. Eastern Time on Thursday, February 16, 2006.

Docket Numbers: ER06-551-000.

Applicants: Midwest Independent Transmission System Operator, Inc.

Description: Midwest Independent Transmission System Operator, Inc. and Midwest ISO Transmission Owners submits revisions to Schedule 23.

Filed Date: January 26, 2006.

Accession Number: 20060130-0321.

Comment Date: 5 p.m. Eastern Time on Thursday, February 16, 2006.

Docket Numbers: ER06-552-000.

Applicants: NorthWestern Corporation.

Description: NorthWestern Corp. submits an executed amendment to the Generator Interconnection Agreement with United Materials of Great Falls, Inc.

Filed Date: January 26, 2006.

Accession Number: 20060130-0235.

Comment Date: 5 p.m. Eastern Time on Thursday, February 16, 2006.

Docket Numbers: ER06-554-000.

Applicants: Virginia Electric and Power Company.

Description: Virginia Electric & Power Co. submits its Rate Schedule No. 134, updated revenue requirement for Reactive Supply and Voltage Control from Generation Sources Service.

Filed Date: January 27, 2006.

Accession Number: 20060131-0026.

Comment Date: 5 p.m. Eastern Time on Friday, February 17, 2006.

Docket Numbers: ER06-557-000.

Applicants: El Paso Electric Company.

Description: El Paso Electric Co. submits a Power Purchase and Sale Agreement with Phelps Dodge Energy Services, LLC and on January 31, 2006 an executed Certificate of Concurrence.

Filed Date: January 27, 2006.

Accession Number: 20060131-0030.

Comment Date: 5 p.m. Eastern Time on Friday, February 17, 2006.

Docket Numbers: ER06-560-000.

Applicants: Credit Suisse Energy LLC.

Description: Credit Suisse Energy, LLC submits a Notice of Succession as a result of a corporate name change.

Filed Date: January 27, 2006.

Accession Number: 20060131-0033.

Comment Date: 5 p.m. Eastern Time on Friday, February 17, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-1674 Filed 2-7-06; 8:45 am]

BILLING CODE 6717-01-P